FEDERAL COMMUNICATIONS COMMISSION

47 CFR Part 73

[GN Docket No. 12-268; MB Docket No. 16-306; DA 16-1164]

Media Bureau Seeks Comment on Updates to Catalog of Reimbursement Expenses

AGENCY: Federal Communications Commission.

ACTION: Proposed rule; request for comment.

SUMMARY: In this document the Media Bureau of the Federal Communications Commission (Commission) seeks comment on updates to the catalog of eligible reimbursement expenses (Catalog) which contains costs for equipment and services that broadcasters and multichannel-video-programming-distributors (MVPDs) may incur as a result of the post-incentive auction repack and channel reassignment. In order to disburse money from the $1.75 billion TV Broadcaster Relocation Fund in accordance with the Spectrum Act and the Incentive Auction Report and Order, the Media Bureau seeks comment on changes to the Catalog, which include: Increases to the baseline costs previously proposed, the addition of new categories of reimbursement expenses, and the removal of other categories of expenses due to discontinuance or technological advancements. The Media Bureau also seeks comment on a proposed economic methodology for adjusting the baseline costs listed in the Catalog annually throughout the three-year reimbursement period.

DATES: Comments are due on November 14, 2016. Reply Comments are due on November 29, 2016.

ADDRESSES: All filings must be addressed to the Commission's Secretary, Office of the Secretary, Federal Communications Commission, 445 12th Street SW., Washington, DC 20554. Commercial overnight mail (other than U.S. Postal Service Express Mail and Priority Mail) must be sent to 9300 East Hampton Drive, Capitol Heights, MD 20743. U.S. Postal Service first-class, Express, and Priority mail must be addressed to 445 12th Street SW., Washington DC 20554.

FOR FURTHER INFORMATION CONTACT: Pamela Gallant, 202-418-0614, or Raphael Sznajder, 202-418-1648, of the Media Bureau, Video Division.

SUPPLEMENTARY INFORMATION: With the assistance of a third-party contractor, Widelity, Inc., and based on the record to date, the Media Bureau has developed and now updated the catalog of eligible reimbursement expenses (Catalog) for reimbursement-eligible entities to use as a guide. The Catalog is not intended to be a definitive list of all reimbursable expenses, but, rather, as a means of facilitating the process for reimbursement-eligible entities to claim reimbursement during the post-incentive auction repacking. This Public Notice (available at: http://transition.fcc.gov/Daily_Releases/Daily_Business/2016/db1013/DA-16-1164A1.pdf), seeks comment not only on the updated categories and prices for the reimbursement expenses listed, but also on the proposed economic methodology that the Media Bureau will employ to update the prices in the Catalog throughout the three-year reimbursement period. The Media Bureau proposes to modify the baseline costs contained in the Catalog annually based upon the Producer Price Indexes (PPI) annual average, specifically the WPUFD4 series, as calculated by the Bureau of Labor Statistics, and seeks comment on its proposal to do so. After considering the comments received, the Catalog the Media Bureau adopts will be embedded in the on-line Reimbursement Form, FCC Form 2100, Schedule 399, which will be used by entities seeking reimbursement to file estimated costs and reimbursement claims for actual costs incurred. The record obtained in response to this Public Notice will allow the Media Bureau to adopt an updated Catalog, reflecting current baseline costs for listed reimbursement expenses, and to determine the methodology it will use to adjust the listed expenses in the Catalog during throughout the reimbursement period. After considering the comments filed in connection with the updated Catalog and our proposed economic methodology for adjusting the baseline costs, we will finalize the Catalog and the Reimbursement Form. Thereafter, we will resubmit the Reimbursement Form to the Office of Management and Budget (OMB) for approval under the Paperwork Reduction Act (PRA) of the changes resulting from the modifications to the Catalog, as well as other minor modifications to the Reimbursement Form that are designed to assist filers in describing their claims. The public will have an opportunity to comment on the incremental data collections contained in the finalized Reimbursement Form, as required by the PRA, after we receive comments in response to the updated Catalog, and the finalized Reimbursement Form is submitted to OMB for approval under the PRA. This is a summary of the FCC's document GN Docket No. 12-268; MB Docket No. 16-306; DA 16-1164 (released October 13, 2016). The full text of this document is available for inspection and copying during normal business hours in the FCC Reference Center (Room CY-A257), 445 12th Street SW., Washington, DC 20554.

Federal Communications Commission.
Barbara A. Kreisman,
Chief, Video Division, Media Bureau.

[FR Doc. 2016-26059 Filed 10-27-16; 8:45 am]

BILLING CODE 6712-01-P